DEPARTMENT OF THE TREASURY

Office of Foreign Assets Control

Sanctions Actions Pursuant to Executive Orders

AGENCY: Office of Foreign Assets Control, Treasury Department.

ACTION: Notice.

SUMMARY: The Treasury Department's Office of Foreign Assets Control (OFAC) is publishing the names of 9 persons whose property and interests in property are blocked pursuant to one or more of the following authorities: Executive Order (E.O.) 13553, E.O. 13622, or E.O. 13628. OFAC is also publishing revised information on OFAC's list of Specially Designated Nationals and Blocked Persons (SDN List) for 30 vessels identified as blocked property of one or more persons whose property and interests in property are blocked pursuant to EO 13382.

DATES: OFAC's actions described in this notice were effective December 30, 2014.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On December 30, 2014, OFAC blocked the property and interest in property of the following 7 persons pursuant to E.O. 13622, “Authorizing Additional Sanctions With Respect to Iran.”

Individuals

1. AMERI, Teymour (a.k.a. AMERI, Teymur; a.k.a. BARAKI, Teimur Ameri; a.k.a. BARAKY, Teymur Ameri; a.k.a. BARKI, Teymur Ameri); DOB 12 Jul 1958 (individual) [EO13622].

2. SEIFI, Asadollah (a.k.a. SAYFI, Esdaleh; a.k.a. SEIFY, Asadollah); DOB 04 Apr 1965 (individual) [EO13622].

3. YASINI, Seyed Kamal (a.k.a. YASINI, Sayyed Kamal; a.k.a. YASINI, Seyyed Kamal); DOB 23 Sep 1956; nationality Iran; Additional Sanctions Information—Subject to Secondary Sanctions; Passport H95629553 (Iran); National ID No. 1229838619 (individual) [EO13622].

4. ZEIDI, Hossein (a.k.a. ZEIDI, Hosein; a.k.a. ZEIDI, Hossein Mansour); DOB 11 Sep 1965; citizen Saint Kitts and Nevis; citizen Saint Vincent and the Grenadines; Former Citizenship Country Iran; Passport RE0003553 (Saint Kitts and Nevis); National ID No. 444169 (United Arab Emirates) (individual) [EO13622].

5. QULANDARY, Azizullah Asadullah (a.k.a. QALANDARI, Azizabdullah); DOB 06 May 1978; POB Ghazni, Afghanistan; citizen Afghanistan; Passport OR306200 (Afghanistan); National ID No. 83669179 (United Arab Emirates) (individual) [EO13622].

6. NASIRBEIK, Anahita; DOB 10 Jan 1983; nationality Iran; Additional Sanctions Information—Subject to Secondary Sanctions; Passport A5190428 (Iran) (individual) [EO13622].

Entity

1. BELFAST GENERAL TRADING LLC, Room 1602 Twin Tower Building, Baniyas Rd, Dubai, United Arab Emirates [EO13622].

On December 30, 2014, OFAC blocked the property and interest in property of the following 1 person pursuant to E.O. 13553, “Blocking Property of Certain Persons With Respect to Serious Human Rights Abuses by the Government of Iran and Taking Certain Other Actions.”

Entity

1. ABYSSEC, Madar Square, Boulvar-e-Mirdamad, Tehran, Iran; Additional Sanctions Information—Subject to Secondary Sanctions [IRAN-HR].

On December 30, 2014, OFAC blocked the property and interest in property of the following 1 person pursuant to E.O. 13628, “Authorizing the Implementation of Certain Sanctions Set Forth in the Iran Threat Reduction and Syria Human Rights Act of 2012 and Additional Sanctions With Respect to Iran.”

Entity

1. DOURAN SOFTWARE TECHNOLOGIES, Gha'em Magham Farahani St., Sho'a Square, Khadri St, Block 20, Tehran, Iran; Additional Sanctions Information—Subject to Secondary Sanctions [IRAN-TRA].

On December 30, 2014, OFAC published revised information on the SDN List to reflect new names or other information for 30 vessels previously identified as blocked property of one or more persons whose property or interests in property are blocked pursuant to E.O. 13382.

1. ARDAVAN (f.k.a. CHAPAREL; f.k.a. HAKIM; f.k.a. IRAN HAKIM) Bulk Carrier 53,100DWT 31,117GRT Iran flag (IRISL); Former Vessel Flag Moldova; Vessel Registration Identification IMO 9465863 (vessel) [NPWMD].

2. ARIES (f.k.a. ELVIRA; f.k.a. FILBERT; f.k.a. GRACEFUL) Bulk Carrier 76,000DWT 41,226GRT Iran flag (IRISL); Former Vessel Flag Bolivia; Vessel Registration Identification IMO 9369722 (vessel) [NPWMD].

3. ARSHAM (f.k.a. CHASTITY; a.k.a. IRAN SHAAFI; a.k.a. SHAAFI) Bulk Carrier 53,000DWT 32,474GRT Iran flag (IRISL); Former Vessel Flag Malta; Vessel Registration Identification IMO 9386500 (vessel) [NPWMD].

4. ARTAVAND (f.k.a. DORSAN; f.k.a. IRAN KHORASAN; f.k.a. KHORASAN) Bulk Carrier 72,622DWT 39,424GRT Iran flag (IRISL); Former Vessel Flag Malta; Vessel Registration Identification IMO 9193214 (vessel) [NPWMD].

5. ARTMAN (f.k.a. BAAGHI) Bulk Carrier 53,457DWT 32,474GRT Iran flag (IRISL); Former Vessel Flag Tanzania; Vessel Registration Identification IMO 9405930 (vessel) [NPWMD].

6. ARVIN (f.k.a. BLUEBELL; f.k.a. EGLANTINE; f.k.a. IRAN GILAN) Bulk Carrier 63,400DWT 39,424GRT Iran flag (IRISL); Former Vessel Flag Bolivia; Vessel Registration Identification IMO 9193202 (vessel) [NPWMD].

7. AVANG (f.k.a. CHAPLET; f.k.a. IRAN RAHIM; f.k.a. RAHIM) Bulk Carrier 53,100DWT 31,117GRT Iran flag (IRISL); Former Vessel Flag Malta; Vessel Registration Identification IMO 9465746 (vessel) [NPWMD].

8. AZARGOUN (f.k.a. ARMIS; f.k.a. IRAN ZANJAN; f.k.a. VISEA) Container Ship 33,850DWT 25,391GRT Iran flag (IRISL); Former Vessel Flag Tanzania; Vessel Registration Identification IMO 9283019 (vessel) [NPWMD].

9. BAHJAT (f.k.a. BAANI) Bulk Carrier 53,500DWT 32,474GRT Iran flag (IRISL); Former Vessel Flag Moldova; Vessel Registration Identification IMO 9405954 (vessel) [NPWMD].

10. BASKAR (f.k.a. AALI) Bulk Carrier 53,500DWT 32,474GRT Iran flag (IRISL); Former Vessel Flag Moldova; Vessel Registration Identification IMO 9405942 (vessel) [NPWMD].

11. BATIS (f.k.a. AZIM; f.k.a. CHAPMAN; f.k.a. IRAN AZIM) Bulk Carrier 53,100DWT 31,117GRT Iran flag (IRISL); Former Vessel Flag Malta; Vessel Registration Identification IMO 9465760 (vessel) [NPWMD].

12. BEHDAD (f.k.a. BRILLIANCE; f.k.a. CLOVER; f.k.a. DORITA; f.k.a. IRAN BRILLIANCE; f.k.a. MULBERRY) General Cargo 24,065DWT 16,621GRT Iran flag (IRISL); Former Vessel Flag Bolivia; Vessel Registration Identification IMO 9051636 (vessel) [NPWMD].

13. BEHSHAD (f.k.a. BLANCA; f.k.a. LIMNETIC; f.k.a. MAGNOLIA; f.k.a. SEA FLOWER) General Cargo 23,176DWT 16,694GRT Iran flag (IRISL); Former Vessel Flag Bolivia; Vessel Registration Identification IMO 9167289 (vessel) [NPWMD].

14. ELYANA (f.k.a. EVITA; f.k.a. GOLDENROD; f.k.a. IRAN LUCKY LILY; f.k.a. LUCKY LILY) General Cargo 22,882DWT 15,670GRT Iran flag (IRISL); Former Vessel Flag Bolivia; Vessel Registration Identification IMO 9165827 (vessel) [NPWMD].

15. GOLAFRUZ (f.k.a. DIANTHE; f.k.a. HORSHAM; f.k.a. IRAN BAM) Bulk Carrier 73,664DWT 40,166GRT Iran flag (IRISL); Former Vessel Flag Barbados; Vessel Registration Identification IMO 9323833 (vessel) [NPWMD].

16. GOLSAR (f.k.a. CARMELA; f.k.a. IRAN AZARBAYJAN; f.k.a. NAFIS; f.k.a. ZAWA) Bulk Carrier 72,642DWT 39,424GRT Iran flag (IRISL); Former Vessel Flag Bolivia; Vessel Registration Identification IMO 9193185 (vessel) [NPWMD].

17. GULAFSHAN (f.k.a. ATLANTIC; f.k.a. DREAMLAND; f.k.a. IRAN DREAMLAND) Bulk Carrier 43,302DWT 25,770GRT Iran flag (IRISL); Former Vessel Flag Hong Kong; Vessel Registration Identification IMO 8320183 (vessel) [NPWMD].

18. JAIRAN (f.k.a. CAMELLIA; f.k.a. CATALINA; f.k.a. IRAN SEA BLOOM; f.k.a. LODESTAR; f.k.a. SEA BLOOM) General Cargo 23,176DWT 16,694GRT Iran flag (IRISL); Former Vessel Flag Bolivia; Vessel Registration Identification IMO 9167291 (vessel) [NPWMD].

19. KIAZAND (f.k.a. CHARIOT; f.k.a. IRAN KARIM; f.k.a. KARIM) Bulk Carrier 53,100DWT 31,117GRT Iran flag (IRISL); Former Vessel Flag Malta; Vessel Registration Identification IMO 9465758 (vessel) [NPWMD].

20. MAHNAM (f.k.a. ATENA; f.k.a. CONSUELO; f.k.a. IRAN YAZD; f.k.a. LANCELIN) Bulk Carrier 72,642DWT 40,609GRT Iran flag (IRISL); Former Vessel Flag Bolivia; Vessel Registration Identification IMO 9213387 (vessel) [NPWMD].

21. NAGHMEH (f.k.a. APOLLO; f.k.a. IRAN DESTINY; f.k.a. IRAN NAVAB) Bulk Carrier 43,329DWT 25,768GRT Iran flag (IRISL); Former Vessel Flag Hong Kong; Vessel Registration Identification IMO 8320145 (vessel) [NPWMD].

22. NEGAR (f.k.a. ELICIA; f.k.a. GARLAND; f.k.a. IRAN LUCKY MAN; f.k.a. LUCKY MAN) General Cargo 22,882DWT 15,670GRT Iran flag (IRISL); Former Vessel Flag Bolivia; Vessel Registration Identification IMO 9165839 (vessel) [NPWMD].

23. NESHAT (f.k.a. BEGONIA; f.k.a. IRAN PRETTY SEA (KHUZESTAN); f.k.a. LAVENDER; f.k.a. PRETTY SEA) General Cargo 23,116DWT 16,694GRT Iran flag (IRISL); Former Vessel Flag Moldova; Vessel Registration Identification IMO 9167277 (vessel) [NPWMD].

24. PARSHAD (f.k.a. CHIMES; f.k.a. IRAN VAAFI; f.k.a. VAAFI) Bulk Carrier 53,000DWT 32,474GRT Iran flag (IRISL); Former Vessel Flag Tanzania; Vessel Registration Identification IMO 9387786 (vessel) [NPWMD].

25. RONAK (f.k.a. ANIL; f.k.a. DANDY; f.k.a. IRAN DANDY) Bulk Carrier 43,279DWT 25,768GRT Iran flag (IRISL); Former Vessel Flag Hong Kong; Vessel Registration Identification IMO 8320157 (vessel) [NPWMD].

26. SHABGOUN (f.k.a. ALVA; f.k.a. IRAN SABALAN; f.k.a. SABALAN) Container Ship 66,900DWT 53,453GRT Iran flag (IRISL); Former Vessel Flag Sierra Leone; Vessel Registration Identification IMO 9346524 (vessel) [NPWMD].

27. SHADFAR (f.k.a. ADMIRAL; f.k.a. DAIS; f.k.a. IRAN DAIS) Bulk Carrier 43,406DWT 25,768GRT Iran flag (IRISL); Former Vessel Flag Hong Kong; Vessel Registration Identification IMO 8309696 (vessel) [NPWMD].

28. TABANDEH (f.k.a. ATRIUM; f.k.a. IRAN HAMZEH) Bulk Carrier 43,288DWT 25,770GRT Iran flag (IRISL); Former Vessel Flag Hong Kong; Vessel Registration Identification IMO 8320171 (vessel) [NPWMD].

29. TERMEH (f.k.a. ACENA; f.k.a. CELESTINA; f.k.a. IRAN KERMANSHAH) Bulk Carrier 75,249DWT 40,609GRT Iran flag (IRISL); Former Vessel Flag Bolivia; Vessel Registration Identification IMO 9213399 (vessel) [NPWMD].

30. WARTA (f.k.a. ALIM; f.k.a. CHAIRMAN; f.k.a. IRAN ALIM) Bulk Carrier 53,100DWT 31,117GRT Iran flag (IRISL); Former Vessel Flag Tanzania; Vessel Registration Identification IMO 9465849 (vessel) [NPWMD].

Dated: December 30, 2014.
Adam J. Szubin,
Director, Office of Foreign Assets Control.

[FR Doc. 2015-00028 Filed 1-6-15; 8:45 am]

BILLING CODE 4810-AL-P